DEPARTMENT OF ENERGY

Federal Energy Regulatory Commission

[Docket No. EL01-122-001, et al.]

PJM Interconnection, L.L.C., et al.; Electric Rate and Corporate Regulation Filings

January 25, 2002.

Take notice that the following filings have been made with the Commission. Any comments should be submitted in accordance with Standard Paragraph E at the end of this notice.

1. PJM Interconnection, L.L.C.

[Docket No. EL01-122-001]

Take notice that on January 22, 2002, PJM Interconnection, L.L.C. (PJM) tendered for filing, pursuant to the Commission's December 20, 2001 “Order Requiring the Filing of New Oversight Measures and Terminating Investigation” and section 206 of the Federal Power Act, revisions to the PJM Open Access Transmission Tariff, the Amended and Restated Operating Agreement of PJM Interconnection, L.L.C., and the PJM Transmission Owners Agreement to implement the transmission oversight procedures and practices described by PJM in its November 2, 2001 transmission oversight report in Docket No. EL01-122-000.

Copies of this filing have been served on all PJM Members and the state electric regulatory commissions in the PJM control area.

Comment Date: February 12, 2002.

2. International Transmission Company

[Docket Nos. ER01-3000-003, RT01-101-003 and, EC01-146-003]

Take notice that on January 22, 2002, International Transmission Company (International Transmission) and DTE Energy Company tendered a filing in compliance with an order of the Federal Energy Regulatory Commission (Commission) issued on December 20, 2001, in the above-referenced dockets. The December 20 Order directs Applicants to submit a final updated list of all jurisdictional facilities, together with information about their customers, and any contracts, tariffs, and service agreements.

Comment Date: February 12, 2002.

3. Duke Energy Washington, LLC

[Docket No. ER02-795-000]

Take notice that on January 18, 2002, Duke Energy Washington, LLC (Duke Washington) tendered for filing pursuant to section 205 of the Federal Power Act its proposed FERC Electric Tariff No. 1.

Duke Washington seeks authority to sell energy and capacity, as well as ancillary services, at market-based rates, together with certain waivers and preapprovals. Duke Washington also seeks authority to sell, assign, or transfer transmission rights that it may acquire in the course of its marketing activities. Duke Washington seeks an effective date 60 days from the date of filing for its proposed rate schedules.

Comment Date: February 8, 2002.

4. California Independent System Operator Corporation

[Docket No. ER02-798-000]

Take notice that the California Independent System Operator Corporation, (ISO) on January 18, 2002, tendered for filing a Participating Generator Agreement between the ISO and Gilroy Energy Center, LLC for acceptance by the Commission.

The ISO states that this filing has been served on Gilroy Energy Center, LLC and the California Public Utilities Commission. The ISO is requesting waiver of the 60-day notice requirement to allow the Participating Generator Agreement to be made effective September 7, 2001.

Comment Date: February 8, 2002.

5. Occidental Energy Marketing, Inc.

[Docket No. ER02-799-000]

Take notice that on January 18, 2002, Occidental Energy Marketing, Inc. (OEMI) petitioned the Federal Energy Regulatory Commission (Commission) for acceptance of Occidental Energy Marketing, Inc. FERC Electric Rate Schedule No. 1; the issuance of certain blanket authorizations, and an authorization to sell electric capacity and energy at market-based rates; and the waiver of certain Commission regulations.

OEMI intends to engage in wholesale electric capacity and energy purchases and sales as an electric power marketer. OEMI is not in the business of electric power generation or transmission. OEMI is affiliated, however, with four “qualifying facilities” under PURPA and proposes to market some affiliate-generated electric power. OEMI is a wholly owned subsidiary of Occidental Petroleum Corporation, which, through affiliates, explores for, develops, produces and markets crude oil and natural gas and manufactures and markets a variety of basic chemicals as well as specialty chemicals.

Comment Date: February 8, 2002.

6. Michigan Electric Transmission Company and Consumers Energy Company

[Docket No. ER02-800-000]

Take notice that on January 18, 2002, Consumers Energy Company (Consumers) and Michigan Electric Transmission Company (Michigan Transco) tendered for filing a Second Supplemental Notice of Succession and a Revised Rate Schedule for Consumers related to the transfer of transmission assets from Consumers to Michigan Transco. The Second Supplemental Notice of Succession, and Revised Rate Schedule are to become effective April 1, 2001.

A full copy of the filing was served upon the Michigan Public Service Commission, and Customers Michigan South Central Power Authority, Michigan Public Power Authority and Wolverine Power Supply Cooperative were sent the Notice of Succession and related materials.

Comment Date: February 8, 2002.

7. Maclaren Energy Inc.

[Docket No. ER02-801-000]

Take notice that on January 18, 2002, Maclaren Energy Inc. (Maclaren) submitted for filing with the Federal Energy Regulatory Commission (Commission) a letter approving its membership with the Western Systems Power Pool (WSPP). Maclaren requests that the Commission allow its membership in the WSPP to become effective on January 21, 2002.

Maclaren states that a copy of this filing has been provided to the WSPP Executive Committee, the General Counsel, and the members of the WSPP.

Comment Date: February 8, 2002.

8. Commonwealth Edison Company

[Docket No. ER02-802-000]

Take notice that on January 18, 2002, Commonwealth Edison Company (ComEd) submitted for filing an executed Dynamic Scheduling Agreement (DSA) with Alliant Energy (Alliant) under the terms of ComEd's Open Access Transmission Tariff (OATT). The DSA provides the necessary arrangements for Dynamic Scheduling under a Service Agreement for firm point-to-point transmission service from ComEd to Alliant for the period January 1, 2002 to April 1, 2003.

ComEd requests an effective date of January 1, 2002, and accordingly seeks waiver of the Commission's notice requirements. A copy of this filing was served on Alliant.

Comment Date: February 8, 2002.

9. Southwest Power Pool, Inc.

[Docket No. ER02-803-000]

Take notice that on January 18, 2002 Southwest Power Pool, Inc. (SPP) submitted for filing four executed service agreements for Firm Point-to-point Transmission Service with Southwestern Public Service Company d.b.a. Xcel Energy (Transmission Customer), as Service Agreements No. 598 through 601.

SPP seeks an effective date of March 1, 2002 for Service Agreement 598, and an effective date of January 1, 2002 for Service Agreement Nos. 599 through 601. A copy of this filing was served on the Transmission Customer.

Comment Date: February 8, 2002.

10. Wisconsin Power and Light Company

[Docket No. ER02-804-000]

Take notice that on January 18, 2002, Wisconsin Power and Light Company (WPL), tendered for filing a Service Agreement with WPPI and request to terminate Service Agreement No. 39 under FERC Electric Tariff, Original Volume No. 5. WPL indicates that copies of the filing have been provided to WPPI, Prairie du Sac and the Public Service Commission of Wisconsin.

Comment Date: February 8, 2002.

11. Wisconsin Electric Power Company

[Docket No. ER02-805-000]

Take notice that on January 18, 2002, Wisconsin Electric Power Company (Wisconsin Electric) tendered for filing a fully executed Master Power Purchase and Sale Agreement (Master Agreement), designated as FERC Electric Rate Schedule No. 109, between Wisconsin Electric and Ameren Energy Marketing Company. The Master Agreement sets forth the general terms and conditions pursuant to which Wisconsin Electric and Ameren Energy Marketing Company will enter into transactions for the purchase and sale of electric capacity, energy, or other product related thereto. Wisconsin Electric requests that this Master Agreement become effective immediately.

Comment Date: February 8, 2002.

12. Wisconsin Electric Power Company

[Docket No. ER02-806-000]

Take notice that on January 18, 2002, Wisconsin Electric Power Company (Wisconsin Electric) tendered for filing a fully executed Master Power Purchase and Sale Agreement (Master Agreement), designated as FERC Electric Rate Schedule No. 108, between Wisconsin Electric and Ameren Energy Inc., as agent for and on behalf of Union Electric Company d/b/a Amerenue, and Ameren Energy Generating Company (Ameren). The Master Agreement sets forth the general terms and conditions pursuant to which Wisconsin Electric and Ameren will enter into transactions for the purchase and sale of electric capacity, energy, or other product related thereto. Wisconsin Electric requests that this Master Agreement become effective immediately.

Comment Date: February 8, 2002.

13. California Independent System Operator Corporation

[Docket No. ER02-807-000]

Take notice that on January 18, 2002, the California Independent System Operator Corporation, (ISO) tendered for filing with the Federal Energy Regulatory Commission (Commission) a Meter Service Agreement for ISO Metered Entities between the ISO and Gilroy Energy Center, LLC for acceptance by the Commission.

The ISO states that this filing has been served on Gilroy Energy Center, LLC and the California Public Utilities Commission. The ISO is requesting waiver of the 60-day notice requirement to allow the Meter Service Agreement for ISO Metered Entities to be made effective September 7, 2001.

Comment Date: February 8, 2002.

14. Northern States Power Company, (Minnesota) and Northern States Power Company (Wisconsin)

[Docket No. ER02-808-000]

Take notice that on January 22, 2002, Northern States Power Company and Northern States Power Company (Wisconsin) jointly tendered for filing revised tariffs sheets to NSP Electric Rate Schedule FERC No. 2, contained in Xcel Energy Operating Companies FERC Electric Tariff, Original Volume Number 3. The revised tariff sheets provide the annual update to Exhibits VII, VIII, and IX of the “Restated Agreement to Coordinate Planning and Operations and Interchange Power and Energy between Northern States Power Company (Minnesota) and Northern States Power Company (Wisconsin),” accepted for filing in Docket No. ER01-1014-000.

The NSP Companies request an effective date of January 1, 2002, without suspension. The NSP Companies state that a copy of the filing has been served upon the State Commissions of Michigan, Minnesota, North Dakota, South Dakota and Wisconsin.

Comment Date: February 12, 2002.

15. Pacific Gas and Electric Company

[Docket No. ER02-810-000]

Take notice that on January 22, 2002, Pacific Gas and Electric Company (PG&E) tendered for filing an amendment letter agreement (Amendment) to the Generator Special Facilities and Interconnection Agreements between Geysers Power Company, LLC and PG&E (collectively, Parties). The Amendment extends the term of the Agreements. The filing does not modify any rate levels.

The Agreements were originally accepted for filing by the Commission in FERC Docket No. ER00-3294-001 and designated as Service Agreement No. 1 under FERC PG&E Electric Tariff, Sixth Revised Volume No. 5.

Copies of this filing were served upon Geysers Power Company, LLC, the California Independent System Operator Corporation, and the California Public Utilities Commission.

Comment Date: February 12, 2002.

16. Renewable Energy Resources, LLC

[Docket No. ER02-809-000]

Take notice that on January 22, 2002, Renewable Energy Resources, LLC, a Michigan limited liability company, (Applicant) petitioned the Federal Energy Regulatory Commission (Commission) for acceptance of Renewable Energy Resources, LLC's FERC Electric Rate Schedule No. 1; the granting of certain blanket authorizations, including the authority to sell electric energy and capacity to wholesalers at market-based rates; and the waiver of certain Commission regulations.

Applicant intents to engage in wholesale electric power and energy purchases and sales as a marketer. Applicant is not in the business of generating or transmitting electric power. Applicant neither owns or controls any transmission or operating generational facilities, or has a franchised service area for the sale of electricity to captive customers. Applicant is a privately owned company, and is not engaged in any other businesses.

Applicant does not currently sell power to any person pursuant to the proposed Rate Schedule. A copy of its filing, however, has been served on the Michigan Public Service Commission as a courtesy.

Comment Date: February 12, 2002.

17. Kansas Gas and Electric Company

[Docket No. ER02-811-000]

Take notice that on January 22, 2002, Western Resources, Inc. (d.b.a. Westar Energy), on behalf of its wholly-owned subsidiary Kansas Gas and Electric Company (KGE) (d.b.a. Westar Energy), submitted for filing an Order 614 compliant version of KGE's Unit Participation Power Agreement with Midwest Energy, Inc. (MWE), FERC No. 184, dated November 17, 1993. The purpose of this filing is to amend the previously signed Agreement between the parties to allow certain transactions to be priced at rates below those established by the Agreement as mutually agreed by the parties. This agreement is proposed to be effective January 1, 2002.

Copies of the filing were served upon MWE and the Kansas Corporation Commission.

Comment Date: February 12, 2002.

18. New England Power Company

[Docket No. ER02-812-000]

Take notice that on January 22, 2002, New England Power Company (NEP) submitted Original Service Agreement No. 210 for Firm Local Generation Delivery Service between NEP and Wheelabrator North Andover Inc. under NEP's open access transmission tariff—FERC Electric Tariff, Second Revised Volume No. 9.

Comment Date: February 12, 2002.

19. Wolverine Power Supply Cooperative, Inc.

[Docket No. ER02-813-000]

Take notice that on January 22, 2002, Wolverine Power Supply Cooperative, Inc., submitted for filing proposed changes to its First Revised Rate Schedule FERC No. 4—Wholesale Service to Member Distribution Cooperatives. The proposed change consists of a First Revised Page No. 14.00, Rider “SB”, to replace the Original Page No. 14.00, Rider “SB.” Wolverine requests an effective date of February 1, 2002, for this First Revised Page No. 14.00.

Wolverine states that a copy of this filing has been served upon its member cooperatives: Cherryland Electric Cooperative, Great Lakes Energy, Presque Isle Electric & Gas Co-op, HomeWorks Tri-County Electric Cooperative, Wolverine Power Marketing Cooperative, and the Michigan Public Service Commission.

Comment Date: February 12, 2002.

20. Southwest Power Pool, Inc.

[Docket No. ER02-796-000]

Take notice that on January 22, 2002, Southwest Power Pool, Inc. (SPP) submitted for filing an executed service agreement for Firm Point-to-Point transmission Service with UtiliCorp United, Inc. (Transmission Customer).

SPP seeks an effective date of January 1, 2002 for this service agreement. A copy of this filing was served on the Transmission Customer.

Comment Date: February 12, 2002.

21. Astoria Energy LLC

[Docket No. ER01-3103-001]

Take notice that on January 22, 2002, Astoria Energy LLC (Astoria Energy) filed with the Federal Energy Regulatory Commission (Commission) an Amendment (Amendment) to its Petition for Acceptance of Initial Rate Schedule, Waivers & Blanket Authority, Docket No. ER01-3103-000. Astoria Energy's Amendment is filed pursuant to section 205 of the Federal Power Act and Rules 205 and 207 of the Commission's rules of Practice.

Comment Date: February 12, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-2367 Filed 1-30-02; 8:45 am]

BILLING CODE 6717-01-P